DEPARTMENT OF HEALTH AND HUMAN SERVICES

Public Meeting of the President's Council on Bioethics

AGENCY: Department of Health and Human Services, Office of Public Health and Science, The President's Council on Bioethics.

ACTION: Notice.

SUMMARY: The President's Council on Bioethics (Edmund D. Pellegrino, MD, Chairman) will hold its thirty-sixth meeting; the primary focus of discussion will be the future of public bioethics and national bioethics commissions in the United States. The full agenda will be posted on the Council's Web site at http://www.bioethics.gov prior to the meeting. Subjects discussed at past Council meetings (although not on the agenda for the March 2009 meeting) include: therapeutic and reproductive cloning, assisted reproduction, reproductive genetics, neuroscience, aging retardation, organ transplantation, personalized medicine, standards for the determination of death, children and bioethics, and lifespan-extension, among others. Publications issued by the Council to date include: Human Cloning and Human Dignity: An Ethical Inquiry (July 2002); Beyond Therapy: Biotechnology and the Pursuit of Happiness (October 2003); Being Human: Readings from the President's Council on Bioethics (December 2003); Monitoring Stem Cell Research (January 2004); Reproduction and Responsibility: The Regulation of New Biotechnologies (March 2004); Alternative Sources of Human Pluripotent Stem Cells: A White Paper (May 2005); Taking Care: Ethical Caregiving in Our Aging Society (September 2005); Human Dignity and Bioethics: Essays Commissioned by the President's Council on Bioethics (March 2008); The Changing Moral Focus of Newborn Screening: An Ethical Analysis by The President's Council on Bioethics (December 2008); and Controversies in the Determination of Death: A White Paper by The President's Council on Bioethics (December 2008). Reports are forthcoming on organ transplantation and health care reform.

DATES: The meeting will take place Thursday, March 12, 2009, from 9 a.m. to 5 p.m., ET; and Friday, March 13, 2009, from 9 a.m. to 10:45 a.m., ET.

ADDRESSES: Renaissance Washington, DC Hotel, 999 9th Street, NW., Washington, DC 20001. Phone 202-898-9000.

FOR FURTHER INFORMATION CONTACT: Ms. Diane M. Gianelli, Director of Communications, The President's Council on Bioethics, 1425 New York Avenue, NW., Suite C100, Washington, DC 20005. Telephone: 202/296-4669. E-mail: info@bioethics.gov. Web site: http://www.bioethics.gov.

SUPPLEMENTARY INFORMATION: The meeting agenda will be posted at http://www.bioethics.gov. The Council encourages public input, either in person or in writing. At this meeting, interested members of the public may address the Council, beginning at 10:30 a.m., on Friday, March 13. Comments are limited to no more than five minutes per speaker or organization. As a courtesy, please inform Ms. Diane M. Gianelli, Director of Communications, in advance of your intention to make a public statement, and give your name and affiliation. To submit a written statement, mail or e-mail it to Ms. Gianelli at one of her contact addresses given above.

Dated: February 5, 2009.
F. Daniel Davis,
Executive Director, The President's Council on Bioethics.

[FR Doc. E9-3843 Filed 2-23-09; 8:45 am]

BILLING CODE 4154-06-P